DEPARTMENT OF COMMERCE

International Trade Administration

UChicago Argonne, LLC, et al.; Notice of Consolidated Decision on Applications for Duty-Free Entry of Scientific Instruments

This is a decision pursuant to Section 6(c) of the Educational, Scientific, and Cultural Materials Importation Act of 1966 (Pub. L. 89-651, as amended by Pub. L. 106-36; 80 Stat. 897; 15 CFR part 301). Related records can be viewed between 8:30 a.m. and 5 p.m. in Room 3720, U.S. Department of Commerce, 14th and Constitution Ave., NW., Washington, DC.

Docket Number: 11-012. Applicant: UChicago Argonne, LLC, Lemont, IL 60439. Instrument: TFS500 Atomic Layer Deposition System. Manufacturer: Beneq OY, Finland. Intended Use: See notice at 76 FR 15945, March 22, 2011. Comments: None received. Decision: Approved. We know of no instruments of equivalent scientific value to the foreign instruments described below, for such purposes as each is intended to be used, that was being manufactured in the United States at the time of its order. Reasons: Pertinent characteristics of this instrument include its modular deposition chamber in order that the system can be reconfigured to optimize the coating process for different substrates. It also has a precursor delivery system that can be heated to 500 degrees Celsius to vaporize non-volatile chemical precursors. Lastly, it is capable of inert gas purging between the deposition chamber and outer heating chambers to contain the precursors without the need for a gas-tight seal at this junction.

Docket Number: 11-016. Applicant: UChicago Argonne, LLC, Lemont, IL 60439-4873. Instrument: Single Roll Presser. Manufacturer: A-Pro Co., Ltd., South Korea. Intended Use: See notice at 76 FR 15945, March 22, 2011. Comments: None received. Decision: Approved. We know of no instruments of equivalent scientific value to the foreign instruments described below, for such purposes as each is intended to be used, that was being manufactured in the United States at the time of its order. Reasons: The instrument is unique in that it is semi-automated with a high attention to dimensional tolerances, temperature control and safety, which ensures that the research cells made will be of industrial level quality and consistency.

Docket Number: 11-018. Applicant: Purdue University, Birck Nanotechnology Center, West Lafayette, IN 47907-2057. Instrument: Rapid Thermal Annealer. Manufacturer: Quailflow Jipelec, France. Intended Use: See notice at 76 FR 15945, March 22, 2011. Comments: None received. Decision: Approved. We know of no instruments of equivalent scientific value to the foreign instruments described below, for such purposes as each is intended to be used, that was being manufactured in the United States at the time of its order. Reasons: Key characteristics of this instrument include a temperature ramp rate of 300 degrees Celsius per second, vacuum purge capability and contamination control.

Dated: May 3, 2011.
Gregory W. Campbell,
Director, Subsidies Enforcement Office, Import Administration.

[FR Doc. 2011-11250 Filed 5-6-11; 8:45 am]

BILLING CODE 3510-DS-P